DEPARTMENT OF TRANSPORTATION

Federal Aviation Administration

14 CFR Part 39

[Docket No. FAA-2008-1330; Directorate Identifier 2008-NM-138-AD]

RIN 2120-AA64

Airworthiness Directives; Viking Air Limited Model DHC-7 Airplanes

AGENCY: Federal Aviation Administration (FAA), DOT.

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as: “Transport Canada has received numerous service difficulty reports concerning Viking DHC-7 and Bombardier DHC-8 aircraft fluorescent lamp holder damage due to overheating. It has been determined that lamp holder overheating is a result of arcing between the fluorescent tube pins and the lamp holder contacts when the tube is not properly seated during installation. Overheating of lamp holders, if not corrected, could generate fumes and smoke.”

The unsafe condition could result in an in-flight fire. The proposed AD would require actions that are intended to address the unsafe condition described in the MCAI.

DATES: We must receive comments on this proposed AD by January 22, 2009.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact Viking Air Limited, 9574 Hampden Road, Sidney, British Columbia V8L 8V5, Canada; telephone 250-656-7227; fax 250-656-0673; e-mail technical.publications@vikingair.com; Internet http://www.vikingair.com. You may review copies of the referenced service information at the FAA, Transport Airplane Directorate, 1601 Lind Avenue, SW., Renton, Washington. For information on the availability of this material at the FAA, call 425-227-1221 or 425-227-1152.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Wing Chan, Aerospace Engineer, Systems and Flight Test Branch, ANE-172, FAA, New York Aircraft Certification Office, 1600 Stewart Avenue, Suite 410, Westbury, New York 11590; telephone (516) 228-7311; fax (516) 794-5531.

SUPPLEMENTARY INFORMATION:

Comments Invited

We invite you to send any written relevant data, views, or arguments about this proposed AD. Send your comments to an address listed under the ADDRESSES section. Include “Docket No. FAA-2008-1330; Directorate Identifier 2008-NM-138-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

Transport Canada Civil Aviation (TCCA), which is the aviation authority for Canada, has issued Canadian Airworthiness Directive CF-2008-27, dated July 4, 2008 (referred to after this as “the MCAI”), to correct an unsafe condition for the specified products. The MCAI states:

Transport Canada has received numerous service difficulty reports concerning Viking DHC-7 and Bombardier DHC-8 aircraft fluorescent lamp holder damage due to overheating. It has been determined that lamp holder overheating is a result of arcing between the fluorescent tube pins and the lamp holder contacts when the tube is not properly seated during installation. Overheating of lamp holders, if not corrected, could generate fumes and smoke, causing concern to passengers and crew.

This directive mandates repetitive inspection[s] for proper installation [and functioning] of fluorescent tubes and prohibits installation of non-arc-protected replacement fluorescent lamp ballasts.

The unsafe condition could result in an in-flight fire. The corrective actions include replacing any lamps that are not properly seated in the lamp holder, and replacing any broken, non-functioning lamp holders. Replacing all affected fluorescent lamp ballasts would terminate the repetitive inspections. You may obtain further information by examining the MCAI in the AD docket.

Relevant Service Information

Viking Air Limited has issued Service Bulletin V7-33-01, dated February 28, 2008. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 21 products of U.S. registry. We also estimate that it would take about 1 work-hour per product to comply with the basic requirements of this proposed AD. The average labor rate is $80 per work-hour. Based on these figures, we estimate the cost of the proposed AD on U.S. operators to be $1,680, or $80 per product, per inspection cycle.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Viking Air Limited (Formerly Bombardier, Inc.): Docket No. FAA-2008-1330; Directorate Identifier 2008-NM-138-AD.

Comments Due Date

(a) We must receive comments by January 22, 2009.

Affected ADs

(b) None.

Applicability

(c) This AD applies to Viking Air Limited Model DHC-7-1, DHC-7-100, DHC-7-101, DHC-7-102, and DHC-7-103 airplanes, certificated in any category; serial numbers 1 through 113 inclusive, with Modifications 7/2444 and 7/2445 incorporated.

Subject

(d) Air Transport Association (ATA) of America Code 33: Lights.

Reason

(e) The mandatory continuing airworthiness information (MCAI) states:

Transport Canada has received numerous service difficulty reports concerning Viking DHC-7 and Bombardier DHC-8 aircraft fluorescent lamp holder damage due to overheating. It has been determined that lamp holder overheating is a result of arcing between the fluorescent tube pins and the lamp holder contacts when the tube is not properly seated during installation. Overheating of lamp holders, if not corrected, could generate fumes and smoke, causing concern to passengers and crew.

This directive mandates repetitive inspection[s] for proper installation [and functioning] of fluorescent tubes and prohibits installation of non-arc-protected replacement fluorescent lamp ballasts.

The unsafe condition could result in an in-flight fire. The corrective actions include replacing any lamps that are not properly seated in the lamp holder, and replacing any broken, non-functioning lamp holders. Replacing all affected fluorescent lamp ballasts would terminate the repetitive inspections.

Actions and Compliance

(f) Unless already done, do the following actions.

(1) Within 1,000 flight hours after the effective date of this AD: Perform a visual inspection to ensure proper installation and functioning of the fluorescent tubes in the lamp holders, and perform all applicable corrective actions before further flight, in accordance with the Accomplishment Instructions of Viking Service Bulletin V7-33-01, dated February 28, 2008. Repeat the inspection thereafter at intervals not to exceed 1,000 flight hours.

(2) Replacing all fluorescent lamp ballasts having part number (P/N) BAO8006-1 and BA[O]8006-28-1 with new fluorescent lamp ballasts having P/N BR9000-21, in accordance with the Accomplishment Instructions of Viking Service Bulletin V7-33-01, dated February 28, 2008, terminates the repetitive inspections required by paragraph (f)(1) of this AD.

FAA AD Differences

Note: This AD differs from the MCAI and/or service information as follows: No differences.

Other FAA AD Provisions

(g) The following provisions also apply to this AD:

(1) Alternative Methods of Compliance (AMOCs): The Manager, New York Aircraft Certification Office (ACO), FAA, has the authority to approve AMOCs for this AD, if requested using the procedures found in 14 CFR 39.19. Send information to ATTN: Wing Chan, Aerospace Engineer, Systems and Flight Test Branch, ANE-172, FAA, New York ACO, 1600 Stewart Avenue, Suite 410, Westbury, New York 11590; telephone (516) 228-7311; fax (516) 794-5531. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI Canadian Airworthiness Directive CF-2008-27, dated July 4, 2008, and Viking Service Bulletin V7-33-01, dated February 28, 2008, for related information.

Issued in Renton, Washington, on December 13, 2008.
Michael J. Kaszycki,
Acting Manager, Transport Airplane Directorate, Aircraft Certification Service.

[FR Doc. E8-30514 Filed 12-22-08; 8:45 am]

BILLING CODE 4910-13-P